NUCLEAR REGULATORY COMMISSION

[Docket No. 50-302]

Florida Power Corporation; Notice of Withdrawal of Application for Amendment to Facility Operating License

The U.S. Nuclear Regulatory Commission (NRC, the Commission) has granted the request of Florida Power Corporation (FPC, the licensee) to withdraw its July 31, 2007, application for proposed amendment to Facility Operating License No. DPR-72 for the Crystal River Unit 3 Nuclear Generating Plant (CR-3) located in Citrus County, Florida.

The proposed amendment would have revised the technical specifications to impose more restrictive voltage and frequency limits during surveillance testing of the emergency diesel generators.

The Commission had previously issued a Notice of Consideration of Issuance of Amendment published in the Federal Register on January 29, 2008 (73 FR 5222). Subsequently, by letter dated June 19, 2008 (Agencywide Documents Access and Management System (ADAMS) Accession No. ML081770040), the licensee withdrew the amendment request, and stated that FPC will continue to maintain administrative control of the emergency diesel generator voltage and frequency limits as described in the referenced license amendment request (LAR) submittal. In addition, the licensee plans to resubmit this LAR under a new identification number after additional evaluations have been completed.

Further on July 24, 2008, in response to the NRC staff request for additional information, FPC: (1) Explained the basis for withdrawal of the amendment request, (2) committed to resubmit the amendment by November 7, 2008, and (3) provided assurance that the short term administrative controls, taken as corrective action in accordance with the guidance contained in NRC Administrative Letter 98-10, are effective and will remain in place until the LAR implementation.

For further details with respect to this action, see the application for amendment dated July 31, 2007, and the licensee's letters dated June 19 and July 24, 2008, which withdrew the application for license amendment. Documents may be examined, and/or copied for a fee, at the NRC's Public Document Room (PDR), located at One White Flint North, Public File Area O1 F21, 11555 Rockville Pike (first floor), Rockville, Maryland. Publicly available records will be accessible electronically from the ADAMS Public Electronic Reading Room on the internet at the NRC Web site, http://www.nrc.gov/reading-rm.html. Persons who do not have access to ADAMS or who encounter problems in accessing the documents located in ADAMS should contact the NRC PDR Reference staff by telephone at 1-800-397-4209 or 301-415-4737, or by e-mail to pdr@nrc.gov.

Dated at Rockville, Maryland, this 29 day of July, 2008.
For the Nuclear Regulatory Commission.
Farideh E. Saba,
Senior Project Manager, Plant Licensing Branch II-2, Division of Operating Reactor Licensing, Office of Nuclear Reactor Regulation.

[FR Doc. E8-19611 Filed 8-22-08; 8:45 am]

BILLING CODE 7590-01-P